DEPARTMENT OF THE INTERIOR

Bureau of Land Management

[WY-920-1320-EL, WYW160394]

Notice of Intent To Prepare an Environmental Impact Statement, Pit 14 Lease by Application, Sweetwater County, WY

AGENCY: Bureau of Land Management, Interior.

ACTION: Notice of Intent (NOI) to prepare an Environmental Impact Statement (EIS), to initiate scoping for a coal lease application received from Black Butte Coal Company for Federal coal in the decertified Green River/Hamms Fork Coal Production Region, Wyoming. The EIS may result in amendment of the Green River Resource Management Plan. If analysis shows that a plan amendment is necessary, the Green River Resource Management Plan may be amended.

SUMMARY: The Bureau of Land Management (BLM) received a competitive coal lease application from Black Butte Coal Company (BBCC) for a maintenance tract adjacent to its existing Black Butte Mine in Sweetwater County, Wyoming. A maintenance tract is a parcel of land containing coal reserves nominated for leasing that may be used to extend an existing mine. This tract, assigned case number WYW160394, is called the Pit 14 Tract and was applied for as a lease by application (LBA) under the provisions of 43 Code of Federal Regulations 3425.

Consistent with regulations pertaining to National Environmental Policy Act (NEPA), the BLM must prepare an environmental document prior to allowing the coal lease to be sold. Under the provisions of Section 102(2)(c) of NEPA, the BLM announces its intentions to prepare an EIS and to solicit public comments regarding issues and resource information.

Consistent with regulations found at 43 CFR 3425, this NOI also serves to notify the public that a coal lease is under consideration.

DATES: The scoping period for the Pit 14 LBA will begin with publication of this notice in the Federal Register. The BLM can best utilize public input if comments and resource information are submitted within 30 days of publication of this notice in the Federal Register. On January 26, 2005, an open house will be held between 4 p.m. and 5:30 p.m., and a scoping meeting at 7 p.m., at the Rock Springs Field Office, 280 Highway 191 North, Rock Springs, Wyoming.

ADDRESSES: Please submit written comments to the Rock Springs Field Office, Attn: Teri Deakins, 280 Highway 191 North, Rock Springs, Wyoming 82901. Fax comments to 307-352-0328, or e-mail them to teri_deakins@blm.gov. Please indicate Pit 14 LBA in the subject line.

FOR FURTHER INFORMATION CONTACT: Teri Deakins, Project Manager, may be reached at 307-352-0211. For information specific to coal or coal operations, Jeff Clawson may be contacted at 307-352-0323.

SUPPLEMENTARY INFORMATION: On March 24, 2004, BBCC filed a coal lease application for a maintenance tract containing approximately 20 million tons of in-place Federal coal within a tract of approximately 1,399.48 acres. This tract, case number WYW160394, is called the Pit 14 Tract and affects the following lands in Sweetwater County:

T. 17 N., R. 101 W., 6th P.M., Wyoming

Sec. 2: Lots 3, 4, SW¼NW¼;

Sec. 4: Lots 1, 2, S½NE¼, SE¼NW¼, NE¼SW¼, S½SW¼, SE¼;

Sec. 10: NW¼, N½SW¼;

T. 18 N., R. 101 W., 6th P.M., Wyoming

Sec. 34: E½, E½NW¼, SW¼.

Containing 1,399.48 acres more or less.

The Pit 14 Tract is located within “checkerboard,” or mixed Federal and private surface ownership. The Pit 14 project area is 33% Federal surface and mineral estate. As part of the coal leasing process, BLM will evaluate the tract configuration and may decide to add or subtract Federal coal to avoid bypassing coal, to facilitate maximum economic recovery, or to increase competition.

The Black Butte Coal Mine is adjacent to the LBA area and BBCC proposes to mine the tract as a maintenance tract for the Black Butte Mine. BBCC has an approved mining and reclamation plan from the Wyoming Department of Environmental Quality (WDEQ), Land Quality Division. The mine also has an approved air quality permit from the WDEQ, Air Quality Division to mine up to 7 million tons of coal per year. BBCC is currently mining from existing Federal, private, and state leases at a rate of 3 to 4 million tons per year.

The Office of Surface Mining Reclamation and Enforcement (OSMRE) will be a cooperating agency during preparation of the EIS. If the Pit 14 LBA Tract is leased to the applicant, the new lease must be incorporated into the existing mining plan for the adjacent mine. Before the Federal coal can be mined, the Secretary of the Interior must approve the revised mining plan. The OSMRE is the Federal agency that would be responsible for recommending approval, approval with conditions, or disapproval of the revised mining plan to the Secretary should the tract be leased.

Through BLM's initial scoping of BBCC's proposal, at least one key issue has been identified: The potential conflict between coal mining and oil and gas development within the lease tract. Other issues tentatively identified include air quality; biological issues, including potential impacts to big game crucial winter range and sage-grouse nesting habitat; vegetation, including plant species that BLM has identified as sensitive; nearby on-going shallow gas exploration and development projects; socio-economic impacts; cumulative impacts; and water quality.

If you have specific issues or other concerns that BLM should consider during the NEPA process, please identify them in writing. You may send comments to the BLM by mail, facsimile, or electronic mail. Comments may also be hand-delivered to the Rock Springs Field Office or submitted at the public meeting. To receive full consideration, please submit comments on or before February 4, 2005. All comments, including the names and street addresses of respondents, will be available for public review at the address listed above during regular business hours (7:45 a.m.-4:30 p.m.), Monday through Friday, except holidays.

Your response is important and will be considered in the environmental analysis process. If you do respond, we will keep you informed of the availability of environmental documents that address impacts that occur from this proposal. Please note that comments and information submitted regarding this project including names, e-mail addresses, and street addresses of the respondents will be available for public review and disclosure at the above address. Individual respondents may request confidentiality. If you wish to withhold your name, e-mail address, or street address from public review or from disclosure under the Freedom of Information Act, you must state this prominently at the beginning of your written comment. Such requests will be honored to the extent allowed by the law. All submissions from organizations or businesses, and from individuals identifying themselves as representatives or officials of organizations or businesses, will be made available for public inspection in their entirety.

Alan Rabinoff,
Acting State Director.

[FR Doc. 05-330 Filed 1-6-05; 8:45 am]

BILLING CODE 4310-22-P